DEPARTMENT OF AGRICULTURE

Farm Service Agency

7 CFR Part 760

RIN 0560-AI74

Removal of Obsolete Crop Assistance Program Regulations

AGENCY: Farm Service Agency, U.S. Department of Agriculture (USDA).

ACTION: Final rule.

SUMMARY: The Farm Service Agency (FSA) is updating our regulations to remove the FSA Crop Assistance Program (CAP), which is obsolete. The changes in this rule will have no impacts on past or present FSA customers.

DATES: This rule is effective May 13, 2025.

FOR FURTHER INFORMATION CONTACT: Sherrie Grimm; telephone: (202) 401-0062; email: Sherrie.Grimm@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Background

FSA program regulations are in 7 CFR Chapter VII (parts 700 through 799). This rule removes the CAP regulations that are obsolete. This rule is considered a housekeeping change and is not changing the active programs that FSA administers.

This rule removes the CAP regulations that are now obsolete due to the expiration of its authority and the ending of the program. Removal of this regulation will not impact any remaining disputes, issues, or other matters regarding the program. The CAP regulations in effect at the time of any action remain in effect for such matters though they are removed from the CFR. The regulations are being removed and a brief description of them follows.

Crop Assistance Program (7 CFR Part 760 Subpart H)

The CAP regulations in 7 CFR part 760 subpart H were authorized by clause 3 of section 32 of the Agricultural Act of 1935 (Pub. L. 74-320). The Secretary of Agriculture determined that it was necessary to use that authority for a one-time program to provide emergency assistance to reestablish the purchasing power of producers of certain crops based on conditions for the 2009 crop year. As a one-time program, the regulations are obsolete and this rule removes them from the CFR.

Notice and Comment, Effective Date, and Exemptions

No public comment period nor delay in the effective date are required for this rule because the Administrative Procedure Act (5 U.S.C. 553) provides that the notice and comment and 30-day delay in the effective date provisions do not apply when the rule involves a matter relating to agency management or personnel, or to public property, loans, grants, benefits, or contracts. This rule involves a program that provided payments to certain agricultural crop producers and therefore falls within the exemption for rules related to benefits.

Executive Orders 12866, 13563, 13771, and 13777

Executive Order 12866, “Regulatory Planning and Review,” and Executive Order 13563, “Improving Regulation and Regulatory Review,” direct agencies to assess all costs and benefits of available regulatory alternatives and, if regulation is necessary, to select regulatory approaches that maximize net benefits (including potential economic, environmental, public health and safety effects, distributive impacts, and equity). Executive Order 13563 emphasized the importance of quantifying both costs and benefits, of reducing costs, of harmonizing rules, and of promoting flexibility. Executive Order 13777 “Enforcing the Regulatory Reform Agenda,” established a federal policy to alleviate unnecessary regulatory burdens on the American people. Executive Order 14192 “Unleashing Prosperity Through Deregulation” announced the Administration policy to significantly reduce the private expenditures required to comply with Federal regulations to secure America's economic prosperity and national security and the highest possible quality of life for each citizen and to alleviate unnecessary regulatory burdens placed on the American people. In line with the requirement to repeal, replace, or modify regulations, this rule is repealing obsolete regulations and will result in cost savings by not publishing those regulations in the Code of Federal Regulations.

The Office of Management and Budget (OMB) designated this rule as not significant under Executive Order 12866 and, therefore, OMB was not required to review this rule. Executive Order 13771, “Reducing Regulation and Controlling Regulatory Costs,” and Executive Order 14192 requires that in order to manage the private costs required to comply with Federal regulations that for every new significant or economically significant regulation issued, specifically, agencies are directed to ensure that the total incremental cost of all new regulations, including repealed regulations, being finalized this year, will be significantly less than zero. Any cost savings related to removing the regulations from the Code of Federal Regulation will be accounted for and will be banked to be used as needed for future offsetting costs.

List of Subjects in 7 CFR Part 760

Acreage allotments, Dairy products, Indemnity payments, Pesticides and pests, Reporting and recordkeeping requirements.

For the reasons discussed above, under the authority cited in the preamble, the Farm Service Agency amends 7 CFR part 760 as follows:

PART 760—INDEMNITY PAYMENT PROGRAMS

1. The authority citation for part 760 continues to read as follows:

Authority: 7 U.S.C. 4501 and 1531; 16 U.S.C. 3801, note; 19 U.S.C. 2497; Title III, Pub. L. 109-234, 120 Stat. 474; Title IX, Pub. L. 110-28, 121 Stat. 211; Sec. 748, Pub. L. 111-80, 123 Stat. 2131; Title I, Pub. L. 115-123, 132 Stat. 65; Title I, Pub. L. 116-20, 133 Stat. 871; Division B, Title VII, Pub. L. 116-94, 133 Stat. 2658; Title I, Pub. L. 117-43, 135 Stat. 356; and Division N, Title I, Pub. L. 117-328.

Subpart H—[Removed and Reserved]

2. Remove and reserve subpart H.

William Beam,
Administrator, Farm Service Agency.

[FR Doc. 2025-08298 Filed 5-12-25; 8:45 am]

BILLING CODE 3411-E2-P